DEPARTMENT OF ENERGY

Federal Energy Regulatory Commission

[Project No. 2853-058]

Montana Department of Natural Resources and Conservation; Notice of Availability of Environmental Assessment

April 7, 2000.

In accordance with the National Environmental Policy Act of 1969 and the Federal Energy Regulatory Commission's (Commission's) regulations, the Office of Energy Projects has reviewed the application requesting the Commission's approval of an application to amend the license for the Broadwater Project for the construction of a structural wall in the project reservoir. The wall would extend from the upstream face of the project dam 150 feet into the reservoir. The wall constructed of rock riprap would separate an irrigation canal intake at the project dam from the hydraulic influences of the turbine intake and would alleviate the clogging of the irrigation canal intake with debris during spring runoff. The Broadwater Project is located on the Missouri River in Broadwater County, Montana.

An Environmental Assessment (EA) has been prepared by staff for the proposed action. In the EA, Commission staff does not identify any significant impacts that would result from the Commission's approval of the construction of the proposed wall in the project reservoir. Thus, staff concludes that approval of the proposed amendment of license would not constitute a major federal action significantly affecting the quality of the human environment.

The EA has been attached to and made a part of an Order Amending License, issued March 28, 2000, for the Broadwater Project (FERC No. 2853-058). Copies of the EA can be viewed at the Commission's Public Reference Room, Room 2A, 888 First Street, NE, Washington, DC 20426, or by calling (202) 208-1371. The EA also may be viewed on the Web at www.ferc.fed.us/online/rims.htm. Call (202) 208-2222 for assistance.

David P. Boergers,
Secretary.

[FR Doc. 00-9168 Filed 4-12-00; 8:45 am]

BILLING CODE 6717-01-M